DEPARTMENT OF TRANSPORTATION

Federal Railroad Administration

[Docket Number FRA-2020-0093]

Petition for Waiver of Compliance

Under part 211 of title 49 Code of Federal Regulations (CFR), this document provides the public notice that on December 2, 2020, the Brotherhood of Locomotive Engineers and Trainmen (BLET) and the Transportation Division of the International Association of Sheet Metal, Air, Rail, and Transportation Workers (SMART TD) petitioned the Federal Railroad Administration (FRA) for a waiver of compliance from certain provisions of the Federal railroad safety regulations contained at 49 CFR parts 240 and 242. FRA assigned the petition Docket Number FRA-2020-0093.

Paragraphs (c) and (d) of § 240.403 require petitions seeking review of a railroad's decision to deny or revoke a locomotive engineer's certification or recertification to be filed with FRA no more than 180 or 120 days, respectively, after the date of a railroad's decision. Paragraph (c) of § 242.503 requires petitions seeking review of a railroad's decision to revoke a conductor's certification to be filed with FRA no more than 120 days after a railroad's decision. Due to the coronavirus disease 2019 (COVID-19) public health emergency, FRA granted relief by letter dated April 7, 2020, and renewed that relief on June 3, 2020, July 30, 2020, and September 24, 2020. BLET and SMART TD once again request to renew this emergency relief. In light of the continued renewal requests, FRA now considers whether longer-term relief is necessary.

In support of their initial March 30, 2020, request for relief, petitioners noted FRA's March 25, 2020, waiver from certain requirements of 49 CFR parts 240 and 242 related to deadlines for responding to petitions submitted to FRA's Operating Crew Review Board granted to the Association of American Railroads, the American Short Line and Regional Railroad Association, and the American Public Transportation Association (together referred to as the Associations).¹ BLET and SMART TD asserted that, as a result of the COVID-19 public health emergency, they and their members face “even greater difficulty in timely filing petitions for review” than the Associations and their members will have in responding to those petitions. In requesting a fourth renewal, the petitioners explain they “continue to experience uncertainty of staff availability during [the] COVID-19 emergency” and the resulting negative impact on their ability to gather additional relevant information and to draft proper petitions within the normal required time frames. FRA opened this docket to evaluate whether the requested emergency relief is necessary on a more long-term basis, similar to the Associations' requests.

¹ On September 18, 2020, FRA renewed each Association's request for relief in separate, non-emergency dockets. See https://www.regulations.gov/document?D=FRA-2020-0059-0004; https://www.regulations.gov/document?D=FRA-2020-0060-0005; and https://www.regulations.gov/document?D=FRA-2020-0063-0003.

A copy of the petition, as well as any written communications concerning the petition, is available for review online at www.regulations.gov (Docket Number FRA-2020-0093).

Interested parties are invited to participate in these proceedings by submitting written views, data, or comments. If any interested parties desire an opportunity for oral comment and a public hearing, they should notify FRA, in writing, before the end of the comment period and specify the basis for their request.

All communications concerning these proceedings should identify the appropriate docket number and may be submitted at http://www.regulations.gov. Follow the online instructions for submitting comments.

Communications received by January 19, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety. Chief Safety Officer.

[FR Doc. 2020-27735 Filed 12-16-20; 8:45 am]

BILLING CODE 4910-06-P